DEPARTMENT OF HOMELAND SECURITY

Coast Guard

33 CFR Part 100

[CGD05-06-076]

RIN 1625-AA08

Special Local Regulations for Marine Events; Wrightsville Channel, Wrightsville Beach, NC

AGENCY: Coast Guard, DHS.

ACTION: Notice of enforcement of regulation.

SUMMARY: The Coast Guard is implementing the special local regulations at 33 CFR 100.513 during the Wilmington YMCA Triathlon to be held September 30, 2006, on the waters of Wrightsville Channel, Wrightsville Beach, North Carolina. This action is necessary to provide for the safety of life on navigable waters during the event. The effect will be to restrict general navigation in the regulated area for the safety of participants and vessels transiting the event area.

DATES: Effective Dates: 33 CFR 100.513 will be enforced from 6:30 a.m. to 8:30 a.m. on September 30, 2006.

FOR FURTHER INFORMATION CONTACT: CWO Chris Humphrey, Coast Guard Sector North Carolina, Prevention Department, at (252) 247-4525.

SUPPLEMENTARY INFORMATION: The Wilmington YMCA will sponsor the Wilmington YMCA Triathlon on September 30, 2006 on the waters of Wrightsville Channel, Wrightsville Beach, North Carolina. The event will involve approximately 1500 swimmers competing along a course within the regulated area. In order to ensure the safety of the swimmers and transiting vessels, 33 CFR 100.513 will be enforced for the duration of the event. Under provisions of 33 CFR 100.513, a vessel may not enter the regulated area unless it receives permission from the Coast Guard Patrol Commander.

In addition to this notice, the maritime community will be provided extensive advance notification via the Local Notice to Mariners, marine information broadcasts, local radio stations and area newspapers, so mariners can adjust their plans accordingly.

Dated: July 19, 2006.
L.L. Hereth,
Rear Admiral, U.S. Coast Guard, Commander, Fifth Coast Guard District.

[FR Doc. E6-12333 Filed 7-31-06; 8:45 am]

BILLING CODE 4910-15-P